DEPARTMENT OF THE INTERIOR

Fish and Wildlife Service

[FWS-R9-IA-2012-N162; FXIA16710900000P5-123-FF09A30000]

Endangered Species; Marine Mammals; Receipt of Applications for Permit

AGENCY: Fish and Wildlife Service, Interior.

ACTION: Notice of receipt of applications for permit.

SUMMARY: We, the U.S. Fish and Wildlife Service, invite the public to comment on the following applications to conduct certain activities with endangered species, marine mammals, or both. With some exceptions, the Endangered Species Act (ESA) and Marine Mammal Protection Act (MMPA) prohibit activities with listed species unless Federal authorization is acquired that allows such activities.

DATES: We must receive comments or requests for documents on or before August 13, 2012. We must receive requests for marine mammal permit public hearings, in writing, at the address shown in the ADDRESSES section by August 13, 2012.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), and the Marine Mammal Protection Act of 1972, as amended (16 U.S.C. 1361 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken. Under the MMPA, you may request a hearing on any MMPA application received. If you request a hearing, give specific reasons why a hearing would be appropriate. The holding of such a hearing is at the discretion of the Service Director.

III. Permit Applications

A. Endangered Species

Applicant: Los Angeles Zoo and Botanical Gardens, Los Angeles, CA; PRT-76851A

The applicant requests a permit to re-import a male and a female mountain tapir (Tapirus pinchaque), which were captive bred at the applicant's facility, Mountain View Conservation and Breeding Center, Langley, BC, Canada, for the purpose of enhancement of the survival of the species.

Applicant: NOAA/National Marine Fisheries Service, Miami, FL; PRT-045532

The applicant requests reissuance of their permit to import and/or introduce from the sea biological samples collected from on the high seas and the land, from wild animals opportunistically salvaged and incidentally captured, and captive-held animals of Kemp's ridley sea turtle (Lepidochelys kempii), hawksbill sea turtle (Eretmochelys imbricata), leatherback sea turtle (Dermochelys coriacea), green sea turtle (Chelonia mydas), and olive ridley sea turtle (Lepidochelys olivacea) for the purpose of scientific research. This notification covers activities conducted by the applicant over a 5-year period.

Applicant: Sacramento Zoo, Sacramento, CA; PRT-76156A

The applicant requests a permit to import one male captive-born snow leopard (Uncia uncia) from Zoo De Granby, Quebec, Canada, for the purpose of enhancement of the species through captive breeding and conservation education.

Applicant: Denver Zoological Foundation, Denver, CO; PRT-69465A

The applicant requests a permit to import two male Asian elephants (Elephas maximus) born in captivity from Emmen Zoo, Emmen, Netherlands, for the purpose of enhancement of the survival of the species through captive breeding and conservation education.

Applicant: Denver Zoological Foundation, Denver, CO; PRT-69463A

The applicant request a permit to import one male Asian elephant (Elephas maximus) born in captivity from Dublin Zoo, Dublin, Ireland, for the purpose of enhancement of the survival of the species through captive breeding and conservation education.

Applicant: Marvin Turner, Henderson, TX; PRT-71824A

The applicant requests a captive-bred wildlife registration under 50 CFR 17.21(g) for the scimitar-horned oryx (Oryx dammah) and barasingha (Rucervus duvaucelii) to enhance their propagation or survival. This notification covers activities to be conducted by the applicant over a 5-year period.

Applicant: Marvin Turner, Henderson, TX; PRT-71826A

The applicant requests a permit authorizing interstate and foreign commerce, export, and cull of excess scimitar-horned oryx (Oryx dammah) and barasingha (Rucervus duvaucelii) from the captive herd maintained at their facility, for the purpose of enhancement of the survival of the species. This notification covers activities to be conducted by the applicant over a 5-year period.

Applicant: Safari West, Santa Rosa, CA; PRT-755365

The applicant requests renewal and amendment of their captive-bred wildlife registration under 50 CFR 17.21(g) for the following families and species, to enhance their propagation or survival. This notification covers activities to be conducted by the applicant over a 5-year period.

Families:

Bovidae

Cervidae

Equidae

Species:

Lemur catta (ring-tailed lemur)

Varecia variegata (black and white ruffed lemur)

Acinonyx jubatus (cheetah).

Applicant: Lykes Bros. Inc., Alpine, TX; PRT-78004A

The applicant requests a captive-bred wildlife registration under 50 CFR 17.21(g) for the scimitar-horned oryx (Oryx dammah) to enhance their propagation or survival. This notification covers activities to be conducted by the applicant over a 5-year period.

Applicant: Lykes Bros. Inc., Alpine, TX; PRT-78003A

The applicant requests a permit authorizing interstate and foreign commerce, export, and cull of excess scimitar-horned oryx (Oryx dammah) from the captive herd maintained at their facility, for the purpose of enhancement of the survival of the species. This notification covers activities to be conducted by the applicant over a 5-year period.

Multiple Applicants

The following applicants each request a permit to import the sport-hunted trophy of one male bontebok (Damaliscus pygargus pygargus) culled from a captive herd maintained under the management program of the Republic of South Africa, for the purpose of enhancement of the survival of the species.

Applicant: Gary Benmark, Joelton, TN; PRT-77994A

Applicant: Coleman Floyd, Midland, TX; PRT-77911A

Applicant: Charles Nace, Sylmar, CA; PRT-78569A

Applicant: Glenn Herman, Castle Rock, CO; PRT-59368A

Applicant: Kevin Perry, Peyton, CO; PRT-78581A

B. Endangered Marine Mammals and Marine Mammals

Applicant: Terrie M. Williams, University of California, Santa Cruz, CA; PRT-045447

The applicant requests an amendment for the permit to take southern sea otters (Enhydra lutris nereis) to conduct Evans blue dye technique as part of the scientific research on the physiology of and metabolic demands on southern sea otters related to energetics, diving, and thermoregulation. This notification covers activities to be conducted by the applicant over the remainder of the 5-year permit.

Concurrent with publishing this notice in the Federal Register, we are forwarding copies of the above applications to the Marine Mammal Commission and the Committee of Scientific Advisors for their review.

Brenda Tapia,
Program Analyst/Data Administrator, Branch of Permits, Division of Management Authority.

[FR Doc. 2012-17004 Filed 7-11-12; 8:45 am]

BILLING CODE 4310-55-P